DEPARTMENT OF ENERGY

Federal Energy Regulatory Commission

[Project No. 9842-004]

Notice of Intent To File License Application, Filing of Pre-Application Document, and Approving Use of the Traditional Licensing Process/Alternative Licensing Procedures; Raymond F. Ward

a. Type of Filing: Notice of Intent to File License Application and Request to Use the Traditional Licensing Process Procedures.

b. Project No.: 9842-004.

c. Date Filed: August 31, 2011.

d. Submitted By: Raymond F. Ward.

e. Name of Project: Ward Mill Dam Project.

f. Location: On the Watauga River, in Watauga County, North Carolina. The project does not occupy any federal lands.

g. Filed Pursuant to: 18 CFR 5.3 of the Commission's regulations.

h. Applicant Contact: Andrew C. Givens, Cardinal Energy service, Inc., 620 N. West St., Suite 103, Raleigh, NC 27603; (919) 834-0909; email—acgivens@cardinalenergy.com.

i. FERC Contact: Michael Spencer at (202) 502-6093; or email at michael.spencer@ferc.gov.

j. Raymond F. Ward filed his request to use the Traditional Licensing Process Procedures on August 31, 2011. Raymond F. Ward provided proof of the public notice of its request on October 6, 2011. In a letter dated October 21, 2011, the Director of the Division of Hydropower Licensing approved Raymond F. Ward's request to use the Traditional Licensing Process.

k. With this notice, we are initiating informal consultation with: (a) The U.S. Fish and Wildlife Service under section 7 of the Endangered Species Act and the joint agency regulations thereunder at 50 CFR Part 402; (b) NOAA Fisheries under section 305(b) of the Magnuson-Stevens Fishery Conservation and Management Act and implementing regulations at 50 CFR 600.920; and (c) the North Carolina State Historic Preservation Officer, as required by section 106, National Historical Preservation Act, and the implementing regulations of the Advisory Council on Historic Preservation at 36 CFR 800.2.

l. Raymond F. Ward filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. The licensee states its unequivocal intent to submit an application for a new license for Project No. 9842. Pursuant to 18 CFR 16.8, 16.9, and 16.10, each application for a new license and any competing license applications must be filed with the Commission at least 24 months prior to the expiration of the existing license. All applications for license for this project must be filed by August 31, 2014.

o. Register online at http://www.ferc.gov/docs-filing/esubscription.asp to be notified via email of new filing and issuances related to this or other pending projects. For assistance, contact FERC Online Support.

Dated: October 21, 2011.
Kimberly D. Bose,
Secretary.

[FR Doc. 2011-27832 Filed 10-26-11; 8:45 am]

BILLING CODE 6717-01-P